DEPARTMENT OF LABOR

Employment and Training Administration

[TA-W-38, 755]

Jewel Fashions, Jersey City, New Jersey; Notice of Termination of Investigation

Pursuant to Section 221 of the Trade Act of 1974, an investigation was initiated on March 5, 2001, in response to a worker petition which was filed by UNITE Local 133/162 on behalf of its workers at Jewel Fashions, Jersey City, New Jersey.

This case is being terminated because the Department was unable to locate an official of the company to obtain the information necessary to issue a determination. Consequently, further investigation in this case would serve no purpose, and the investigation has been terminated.

Signed at Washington, DC, this 8th day of August, 2001.
Linda G. Poole,
Certifying Officer, Division of Trade Adjustment Assistance.

[FR Doc. 01-21322 Filed 8-22-01; 8:45 am]

BILLING CODE 4510-30-M